NUCLEAR REGULATORY COMMISSION

Sunshine Federal Register Notice

Agency Holding the Meetings: Nuclear Regulatory Commission

Date: Week of May 18, 2009.

Place: Commissioners' Conference Room, 11555 Rockville Pike, Rockville, Maryland.

Status: Public and Closed.

Week of May 18, 2009

Monday, May 18, 2009

10 a.m. Affirmation Session (Public Meeting) (Tentative).

a. Progress Energy Carolinas, Inc. (Shearon Harris Nuclear Power Plant, Units 2 and 3), Docket Nos. 52-022-COL and 52-023-COL, Progress Energy and NRC Staff Appeals from LBP-08-21; NC WARN's Motion to Hold the Proceeding in Abeyance (Tentative).

b. Crow Butte Resources, Inc. (License Renewal), LBP-08-24 and LBP-08-27 (Staff and Applicant Appeals of Order Granting Hearing) (Tentative).

* * * * *

*The schedule for Commission meetings is subject to change on short notice. To verify the status of meetings, call (recording)—(301) 415-1292. CONTACT PERSON FOR MORE INFORMATION: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

May 11, 2009.
Rochelle C. Bavol,
Office of the Secretary.

[FR Doc. E9-11387 Filed 5-12-09; 4:15 pm]

BILLING CODE 7590-01-P